DEPARTMENT OF HOMELAND SECURITY

U.S. Citizenship and Immigration Services

Filing Procedures for Employment Authorization and Automatic Extension of Existing Employment Authorization Documents for Eligible Liberians Before Period of Deferred Enforced Departure Ends

AGENCY: U.S. Citizenship and Immigration Services (USCIS), Department of Homeland Security (DHS).

ACTION: Notice.

SUMMARY: On March 27, 2018, President Trump issued a memorandum to the Secretary of Homeland Security (Secretary), Kirstjen M. Nielsen, directing her to implement for eligible Liberians a 12-month deferred enforced departure (DED) wind-down period and to provide for work authorization through March 31, 2019, upon which date DED will end. This 12-month transitional period of DED will allow impacted individuals to arrange for their departure from the United States. This Notice automatically extends DED-related employment authorization documents (EADs) that have a printed expiration date of March 31, 2018, for an additional 6 months through September 30, 2018, for eligible Liberians. This Notice also provides instructions for eligible Liberians on how to apply for the full 12-month period of employment authorization, through March 31, 2019. USCIS will issue new employment authorization documents (EADs) with a March 31, 2019 expiration date to eligible Liberians who are covered by DED under the Presidential Memorandum of March 27, 2018, and who apply for a new EAD. Given the timeframes involved with processing EAD applications, DHS recognizes that not all DED-eligible Liberians will receive new EADs before their current EADs expire on March 31, 2018. Accordingly, through this Notice, DHS also automatically extends the validity of DED-related EADs for 6 months, through September 30, 2018, and explains how Liberians covered under DED and their employers may determine which EADs are automatically extended and how this impacts the Employment Eligibility Verification (Form I-9) and E-Verify processes.

DATES: The 12-month transitional DED period ends on March 31, 2019. The 6-month automatic extension of DED-related EADs, as specified in this Notice, expires on September 30, 2018.

FOR FURTHER INFORMATION CONTACT:

• For further information on DED, including additional information on eligibility, please visit the USCIS DED web page at http://www.uscis.gov/humanitarian/temporary-protected-status/deferred-enforced-departure. You can find specific information about DED for Liberians by selecting “DED Granted Country: Liberia” from the menu on the left of the DED web page.

• You can also contact Samantha Deshommes, Chief, Regulatory Coordination Division, Office of Policy and Strategy, U.S. Citizenship and Immigration Services, Department of Homeland Security, 20 Massachusetts Avenue NW, Washington, DC, 20529-2060; or by phone at 800-375-5283.

Note: The phone number provided here is solely for questions regarding this Notice. It is not for individual case status inquiries.

• If you have additional questions about DED, please visit uscis.gov/tools. Our online virtual assistant, Emma, can answer many of your questions and point you to additional information on our website. If you are unable to find your answers there, you may also reach out to our USCIS Contact Center at 1-800-375-5283 (TTY 1-800-767-1833). Service is available in English and Spanish.

• Applicants seeking information about the status of their individual cases can check Case Status Online, available at the USCIS website at http://www.USCIS.gov, or call the USCIS Contact Center at 1-800-375-5283.

• Further information will also be available at local USCIS offices upon publication of this Notice.

SUPPLEMENTARY INFORMATION:

Table of Abbreviations

DED—Deferred Enforced Departure

DHS—Department of Homeland Security

EAD—Employment Authorization Document

FNC—Final Nonconfirmation

IER—U.S. Department of Justice Civil Rights Division, Immigrant and Employee Rights Section

SAVE—USCIS Systematic Alien Verification for Entitlements Program

Secretary—Secretary of Homeland Security

TNC—Tentative Nonconfirmation

TPS—Temporary Protected Status

TTY—Text Telephone

USCIS—U.S. Citizenship and Immigration Services

Presidential Memorandum Extending DED for Eligible Liberians

Pursuant to the President's constitutional authority to conduct the foreign relations of the United States, President Trump has concluded that foreign policy considerations do not warrant a further extension of DED for Liberians. However, the President determined that foreign policy interests of the United States warrant affording a 12-month wind-down period to Liberian DED beneficiaries. The President concluded that the wind-down period is appropriate to provide Liberia's government with time to reintegrate its returning citizens and to allow DED beneficiaries who are not eligible for other forms of immigration relief to make necessary arrangements and to depart the United States. The President accordingly directed that current Liberian DED beneficiaries who remain eligible for DED be provided DED for a 12-month wind-down period in order to transition and depart the United States. Note that DED only applies to individuals who have continuously resided in the United States since October 1, 2002, and who held Temporary Protected Status (TPS) on September 30, 2007, the date that a former TPS designation of Liberia terminated. The 12-month transitional period will permit individuals covered by DED to arrange for their departure, or seek an alternative lawful immigration status in the United States, if eligible, before DED ends on March 31, 2019. See Presidential Memorandum for the Secretary of State and the Secretary of Homeland Security (Mar. 27, 2018), available at https://www.whitehouse.gov/presidential-actions/presidential-memorandum-secretary-state-secretary-homeland-security/. The President also directed the Secretary to implement the necessary steps to authorize employment authorization for eligible Liberians for 12 months, through March 31, 2019.

Employment Authorization and Filing Requirements

How will I know if I am eligible for employment authorization under the Presidential Memorandum that provided a 12-month transitional DED period for eligible Liberians?

The procedures for employment authorization in this Notice apply only to individuals who are Liberian nationals (and persons without nationality who last habitually resided in Liberia) who:

• Have continuously resided in the United States since October 1, 2002; and

• Are current Liberian DED beneficiaries.

The above eligibility criteria are described in the Presidential Memorandum. Only individuals who held TPS on September 30, 2007, the date that a former TPS designation of Liberia terminated, are eligible for DED under this extension, provided they have continued to meet all other eligibility criteria established by the President. This DED extension does not include any individual:

• Who would be ineligible for TPS for the reasons set forth in section 244(c)(2)(B) of the Immigration and Nationality Act, 8 U.S.C. 1254a(c)(2)(B);

• Whose removal the Secretary determines is in the interest of the United States;

• Whose presence or activities in the United States the Secretary of State has reasonable grounds to believe would have potentially serious adverse foreign policy consequences for the United States;

• Who has voluntarily returned to Liberia or his or her country of last habitual residence outside the United States;

• Who was deported, excluded, or removed prior to March 27, 2018; or

• Who is subject to extradition.

What will I need to file if I am covered by DED and would like to have evidence of employment authorization?

If you are covered under DED for Liberia, and would like to maintain evidence of your employment authorization throughout the 12-month transitional period of DED, you must apply for an EAD by filing an Application for Employment Authorization (Form I-765). USCIS will begin accepting these applications on March 30, 2018. Although this Notice automatically extends DED-related EADs that have a printed expiration date of March 31, 2018, for an additional 6 months through September 30, 2018, if you would like evidence of your continued employment authorization through March 31, 2019, you must file an Application for Employment Authorization (Form I-765) as soon as possible to avoid gaps in evidence of work authorization. Please carefully follow the Application for Employment Authorization (Form I-765) instructions when completing the application for an EAD. When filing the Application for Employment Authorization (Form I-765), you must:

• Indicate that you are eligible for DED by putting “(a)(11)” in response to Question 16 on Application for Employment Authorization (Form I-765);

• Include a copy of your last Notice of Action (Form I-797) showing that you were approved for TPS as of September 30, 2007, if such copy is available. Please note that evidence of TPS as of September 30, 2007, is necessary to show that you were covered under the previous DED for Liberia through March 31, 2018; and

• Submit the fee for the Application for Employment Authorization (Form I-765).

The regulations require individuals covered under DED who request an EAD to pay the fee prescribed in 8 CFR 103.7 for the Application for Employment Authorization (Form I-765). See also 8 CFR 274a.12(a)(11) (employment authorization for DED-covered aliens); and 8 CFR 274a.13(a) (requirement to file EAD application if EAD desired). If you are unable to pay the fee, you may apply for an application fee waiver by completing a Request for Fee Waiver (Form I-912) or submitting a personal letter requesting a fee waiver, and providing satisfactory supporting documentation.

How will I know if USCIS will need to obtain biometrics?

If biometrics are required to produce the secure EAD, you will be notified by USCIS and scheduled for an appointment at a USCIS Application Support Center.

Where do I submit my completed Application for Employment Authorization (Form I-765)?

Mail your completed Application for Employment Authorization (Form I-765) and supporting documentation to the proper address in Table 1.

Table 1—Mailing Addresses
If . . . | Mail to . . .
You are applying through the U.S. Postal Service | USCIS, Attn: DED Liberia, P.O. Box 6943, Chicago, IL 60680-6943.
You are using a non-U.S. Postal Service delivery service | USCIS, Attn: DED Liberia, 131 S. Dearborn 3rd Floor, Chicago, IL 60603-5517.

Can I file my Application for Employment Authorization (Form I-765) electronically?

No. Electronic filing is not available when filing Application for Employment Authorization (Form I-765) based on DED.

May I request an interim EAD at my local USCIS office?

No. USCIS will not issue interim EADs to individuals eligible for DED under the Presidential Memorandum at local offices.

Am I eligible to receive an automatic 6-month extension of my current EAD through September 30, 2018?

You are eligible for an automatic 6-month extension of your EAD if you are a national of Liberia (or a person having no nationality who last habitually resided in Liberia), you are currently covered by Liberian DED, and you are within the class of persons approved for DED by the President.

This automatic extension covers EADs (Forms I-766) bearing an expiration date of March 31, 2018. These EADs must also bear the notation “A-11” on the face of the card under “Category.”

When hired, what documentation may I show to my employer as proof of employment authorization and identity when completing Employment Eligibility Verification (Form I-9)?

You can find a list of acceptable document choices on the “Lists of Acceptable Documents” for Form I-9. You can find additional detailed information on the USCIS I-9 Central web page at http://www.uscis.gov/I-9Central. Employers are required to verify the identity and employment authorization of all new employees by using Form I-9. Within 3 days of hire, an employee must present proof of identity and employment authorization to his or her employer.

From the Lists of Acceptable Documents, you may present any document from List A (reflecting both your identity and employment authorization), or one document from List B (reflecting identity) together with one document from List C (reflecting employment authorization). You may also present an acceptable receipt for List A, List B, or List C documents as described in the Form I-9 Instructions. An EAD is considered an acceptable document under List A. Employers may not reject a document based on a future expiration date.

If your EAD has an expiration date of March 31, 2018, and states “A-11” under “Category,” it has been extended automatically for 6 months consistent with the President's directive and the issuance of this Federal Register Notice. You may choose to present your EAD to your employer as proof of identity and employment authorization for Form I-9 through September 30, 2018. (See the subsection titled “How do my employer and I complete the Employment Eligibility Verification (Form I-9) using an automatically extended EAD for a new job?” for further information). To minimize confusion over this extension at the time of hire, you may also show your employer a copy of this Federal Register Notice confirming the extension of your employment authorization through September 30, 2018.

What documentation may I show my employer if I am already employed but my current DED-related EAD is set to expire?

Even though EADs with an expiration date of March 31, 2018, that state “A-11” under “Category” have been automatically extended for 6 months by virtue of this Federal Register Notice, your employer is required by law to ask you about your continued employment authorization by September 30, 2018, to meet its responsibilities for Form I-9 compliance. You should explain to your employer that USCIS has automatically extended your EAD through September 30, 2018. Your employer may need to reinspect your automatically extended EAD to check the expiration date and category and to record the updated expiration date on your Form I-9 if he or she did not keep a copy of this EAD when you initially presented it. However, your employer does not need a new document to reverify your employment authorization until September 30, 2018, the expiration date of the automatic extension. Instead, you may and your employer should make corrections to the employment authorization expiration dates in Section 1 and Section 2 of Form I-9 (see the subsection titled “What corrections should my current employer and I make to Employment Eligibility Verification (Form I-9) if my EAD has been automatically extended?” for further information). In addition, you may also show this Federal Register Notice to your employer to explain what to do for Form I-9.

Your employer must reverify your employment authorization no later than the date your work authorization expires on September 30, 2018 (the expiration date of the automatic extension). At that time, you must present any document from List A or any document from List C on Form I-9 to reverify employment authorization, or an acceptable List A or List C receipt described in the Form I-9 Instructions. Your employer should complete either Section 3 of the Form I-9 originally completed for you or, if this Section has already been completed or if the version of Form I-9 has expired (check the date in the upper right-hand corner of the form), complete Section 3 of a new Form I-9 of the most current version. Note that employers may not specify which List A or List C document employees must present, and cannot reject an acceptable receipt.

Can my employer require that I produce any other documentation to prove my status, such as proof of my Liberian citizenship?

No. When completing Form I-9, including re-verifying employment authorization, employers must accept any documentation that appears on the Form I-9 “Lists of Acceptable Documents” that reasonably appears to be genuine and that relates to you, or an acceptable List A, List B, or List C receipt. Employers may not request additional documentation that does not appear on the Lists of Acceptable Documents. Therefore, employers may not request proof of Liberian citizenship when completing Form I-9 for new hires, making corrections, or reverifying the employment authorization of current employees. If presented with EADs that have been automatically extended, employers should accept such EADs as valid List A documents so long as the EADs reasonably appear to be genuine and to relate to the employee. Refer to the Note to Employees section of this Notice for important information about your rights if your employer rejects lawful documentation, requires additional documentation, or otherwise discriminates against you based on your citizenship or immigration status, or your national origin.

What happens after September 30, 2018, for purposes of employment authorization?

After September 30, 2018, employers may no longer accept the EADs that were issued under the previous DED extension of Liberia that this Federal Register Notice automatically extended. Before that time, however, USCIS will endeavor to issue new EADs to eligible individuals covered by DED who request them. These new EADs will have an expiration date of March 31, 2019, and can be presented to your employer for completion of Employment Eligibility Verification (Form I-9). Alternatively, you may choose to present any other legally acceptable document or combination of documents listed on the Lists of Acceptable Documents for Employment Eligibility Verification (Form I-9).

How do my employer and I complete Employment Eligibility Verification (Form I-9) using an automatically extended EAD for a new job?

When using an automatically extended EAD to complete Form I-9 for a new job on or before September 30, 2018, you and your employer should do the following:

1. For Section 1, you should:

a. Check “An alien authorized to work until” and enter September 30, 2018, as the expiration date; and

b. Write your Alien Registration Number/USCIS Number where indicated (your EAD or other document from DHS will have your USCIS number or A-Number printed on it; the USCIS Number is the same as your A-Number without the A prefix).

2. For Section 2, employers should:

a. Determine if the EAD is auto-extended for 6 months by ensuring it is in category A-11 and has a March 31, 2018 expiration date;

b. Write in the Document Title;

c. Enter the issuing Authority;

d. Provide the Document Number; and

e. Insert September 30, 2018, the automatically extended EAD expiration date.

No later than the date work authorization expires on September 30, 2018, employers are required by law to reverify the employee's employment authorization in Section 3 of Form I-9.

What corrections should my current employer and I make to Employment Eligibility Verification (Form I-9) if my EAD has been automatically extended?

If you are an existing employee who presented a DED-related EAD that was valid when you first started your job, but that EAD has now been automatically extended, your employer may need to reinspect your automatically extended EAD if your employer does not have a copy of the EAD on file. You may and your employer should correct your previously completed Form I-9 as follows:

1. For Section 1, you should:

a. Draw a line through the expiration date;

b. Write “September 30, 2018” above the previous date;

c. Write “DED Ext.” in the margin of Section 1; and

d. Initial and date the correction in the margin of Section 1.

2. For Section 2, employers should:

a. Determine if the EAD is auto-extended for 6 months by ensuring:

• It is in category A-11; and

• Has an expiration date of September 30, 2018.

b. Draw a line through the expiration date written in Section 2;

c. Write “September 30, 2018” above the previous date;

d. Write “DED Ext.” in the margin or Additional Information field in Section 2; and

e. Initial and date the correction in the margin or Additional Information field in Section 2.

No later than the date work authorization expires on September 30, 2018, employers are required by law to reverify the employee's employment authorization in Section 3.

If I am an employer enrolled in E-Verify, what do I do when I receive a “Work Authorization Documents Expiring” alert for an automatically extended EAD?

E-Verify has automated the verification process for employees whose DED was automatically extended in a Federal Register Notice. If you have an employee covered under DED who provided a DED-related EAD when he or she first started working for you, you may receive a “Work Authorization Documents Expiring” case alert when the auto-extension period for this EAD is about to expire. No later than the date work authorization expires on September 30, 2018, you are required by law to reverify employment authorization in Section 3 of Form I-9. Employers should not use E-Verify for reverification.

Note to All Employers

Employers are reminded that the laws requiring proper employment eligibility verification and prohibiting unfair immigration-related employment practices remain in full force. This Notice does not supersede or in any way limit applicable employment verification rules and policy guidance, including those rules setting forth reverification requirements. For general questions about the employment eligibility verification process, employers may call USCIS at 888-464-4218 (TTY 877-875-6028) or email USCIS at I-9Central@dhs.gov. Calls and emails are accepted in English and many other languages. For questions about avoiding discrimination during the employment eligibility verification process (Form I-9 and E-Verify), employers may call the U.S. Department of Justice's Civil Rights Division, Immigrant and Employee Rights Section (IER) (formerly the Office of Special Counsel for Immigration-Related Unfair Employment Practices) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email at I-9Central@dhs.gov. Calls are accepted in English, Spanish and many other languages upon request. Employees or applicants may also call the IER Worker Information Hotline at 800-255-7688 (TTY 800-237-2515) for information regarding employment discrimination based upon citizenship, immigration status, or national origin, including discrimination related to Form I-9 and E-Verify. The IER Worker Information Hotline provides language interpretation in numerous languages.

To comply with the law, employers must accept any document or combination of documents from the Lists of Acceptable Documents if the documentation reasonably appears to be genuine and to relate to the employee, or an acceptable List A, List B, or List C receipt described in the Form I-9 Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from Form I-9 differs from Federal or State government records.

Employers may not terminate, suspend, delay training, withhold pay, lower pay, or take any adverse action against an employee based on the employee's decision to contest a TNC or because the case is still pending with E-Verify. A case result of Final Nonconfirmation (FNC) is received when E-Verify cannot confirm an employee's employment eligibility. An employer may terminate employment based on a case result of FNC. Work-authorized employees who receive an FNC may call USCIS for assistance at 888-897-7781 (TTY is at 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS website at http://www.dhs.gov/E-verify.

Note Regarding Federal, State, and Local Government Agencies (Such as Departments of Motor Vehicles)

While Federal Government agencies must follow the guidelines laid out by the Federal Government, State and local government agencies establish their own rules and guidelines when granting certain benefits. Each State may have different laws, requirements, and determinations about what documents you need to provide to prove eligibility for certain benefits. Whether you are applying for a Federal, State, or local government benefit, you may need to provide the government agency with documents that show you are covered by DED and/or show you are authorized to work based on DED. Examples are:

(1) Your unexpired EAD that has been automatically extended, or your EAD that has not expired;

(2) A copy of this Federal Register Notice if your EAD is automatically extended under this Notice;

(3) A copy of your past Application for Temporary Protected Status Notice of Action (Form I-797), if you received one from USCIS, coupled with a copy of the Presidential Memorandum extending DED for Liberians; and/or

(4) If there is an automatic extension of work authorization, a print-out from the USCIS DED website that provides information on the automatic extension.

Check with the government agency regarding which document(s) the agency will accept. Some benefit-granting agencies use the USCIS Systematic Alien Verification for Entitlements Program (SAVE) to confirm the current immigration status of applicants for public benefits. You can check the status of your SAVE verification by using CaseCheck at the following link: https://save.uscis.gov/casecheck/, then by clicking the “Check Your Case” button. CaseCheck is a free and fast service that lets you follow the progress of your SAVE verification using your date of birth and one immigration identifier number. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections or make an appointment can be found at the SAVE website at http://www.uscis.gov/save, then by choosing “For Benefit Applicants” from the menu on the left and then selecting “Questions about Your Records?”

Travel Authorization and Advance Parole

Individuals covered under DED who would like to travel outside of the United States must apply for and receive advance parole by filing an Application for Travel Document (Form I-131) with required fee before departing from the United States. See 8 CFR 223.2(a). DHS has the discretion to determine whether to grant advance parole and cannot guarantee advance parole in all cases. In addition, possession of an advance parole document does not guarantee that you will be permitted to re-enter the United States, as that is a decision that will be made by an immigration officer at the port of entry upon your return. If you seek advance parole to travel to Liberia or to your country of last habitual residence outside the United States, you will risk being found ineligible to re-enter the United States under DED because the Presidential Memorandum excludes persons “who have voluntarily returned to Liberia or their country of last habitual residence outside the United States.”

Tracy Renaud,
Acting Deputy Director, U.S. Citizenship and Immigration Services.

[FR Doc. 2018-06659 Filed 3-29-18; 8:45 am]

BILLING CODE 9111-97-P